ENVIRONMENTAL PROTECTION AGENCY

40 CFR Part 52

[EPA-R03-OAR-2017-0152; FRL-9963-81-Region 1]

Air Plan Approval; Delaware; Infrastructure Requirements for the 2012 Fine Particulate Matter Standard; Extension of Comment Period; Availability of Data

AGENCY: Environmental Protection Agency (EPA).

ACTION: Proposed rule; extension of comment period; availability of supplemental information.

SUMMARY: The Environmental Protection Agency (EPA) is extending the comment period for a proposed rule published on June 1, 2017. In the June 1, 2017 proposed rule, EPA proposed to approve portions of the State of Delaware's December 14, 2015 state implementation plan (SIP) submittal to address the infrastructure requirements for the 2012 fine particulate matter (PM2.5) national ambient air quality standards (NAAQS). EPA is extending the comment period due to erroneously omitting the technical support document (TSD) in the docket. This proposed rule corrects this omission and provides notice of the availability of the TSD which supports EPA's analysis. All comments received on or before July 24, 2017 will be entered into the public record and considered by EPA before taking final action on the proposed rule. Comments submitted between the close of the original comment period and the re-opening of this comment period will be accepted and considered.

DATES: Written comments must be received on or before July 24, 2017.

ADDRESSES: Submit your comments, identified by Docket ID No. EPA-R03-OAR-2017-0152 at http://www.regulations.gov, or via email to stahl.cynthia@epa.gov. For comments submitted at Regulations.gov, follow the online instructions for submitting comments. Once submitted, comments cannot be edited or removed from Regulations.gov. For either manner of submission, EPA may publish any comment received to its public docket. Do not submit electronically any information you consider to be confidential business information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, please contact the person identified in the For Further Information Contact section. For the full EPA public comment policy, information about CBI or multimedia submissions, and general guidance on making effective comments, please visit http://www2.epa.gov/dockets/commenting-epa-dockets.

FOR FURTHER INFORMATION CONTACT: Gavin Huang, (215) 814-2042, or by email at huang.gavin@epa.gov.

SUPPLEMENTARY INFORMATION: On June 1, 2017, EPA published in the Federal Register a proposal to approve portions of the State of Delaware's SIP submittal to address the infrastructure requirements for the 2012 PM2.5 NAAQS. 82 FR 25211. Comments on the proposed rule were required to be received by July 3, 2017. We are extending the comment period until July 24, 2017. This action will allow interested persons additional time to prepare and submit comments. EPA is also announcing the availability in the docket of the TSD EPA prepared for this proposed rulemaking which includes EPA's analysis supporting approval of portions of Delaware's December 14, 2015 infrastructure SIP submission for the 2012 PM2.5 NAAQS. The TSD is available in the docket for this rulemaking and online at www.regulations.gov.

List of Subjects in 40 CFR Part 52

Environmental protection, Air pollution control, Incorporation by reference, Particulate matter, Reporting and recordkeeping requirements.

Authority: 42 U.S.C. 7401 et seq.

Dated: June 8, 2017
Cecil Rodrigues,
Acting Regional Administrator, Region III.

[FR Doc. 2017-12963 Filed 6-21-17; 8:45 am]

BILLING CODE 6560-50-P